DEPARTMENT OF THE INTERIOR

National Park Service

[NPS-PWR-PWRO-11436; PXP0137227A001]

Draft Environmental Impact Statement for the Cottonwood Cove and Katherine Landing Development Concept Plans, Clark County, NV, and Mohave County, AZ

AGENCY: National Park Service, Interior.

ACTION: Notice of availability.

SUMMARY: Pursuant to the National Environmental Policy Act of 1969, 42 U.S.C. 4332(2)(C), the National Park Service announces the availability of a Draft Environmental Impact Statement (EIS) for the Cottonwood Cove and Katherine Landing Development Concept Plans, Lake Mead National Recreation Area. The Draft EIS identifies and analyzes three alternatives, as follows. Alternative 1 Continue Current Management Trends (no action alternative) reflects current management direction and serves as a baseline for comparison with the other alternatives. Existing facilities would be retained with minimal changes. Alternative 2 Implement Previous Planning Proposals would implement previous planning proposals that separate day use and marina facilities, maintain the type of overnight facilities, and provide flood mitigation. Alternative 3 Enhance Visitor Experience and Park Operations (agency-preferred alternative) would enhance day-use opportunities, upgrade and expand the type of overnight facilities, and provide flood mitigation. The Draft EIS also evaluates the potential environmental impacts of the alternatives, including potential impacts to native plant communities and soils, wildlife, threatened, endangered, and special status species; floodplains; archeological resources; historic structures; cultural landscape; ethnographic resources; visitor use, experience, and safety; park operations; and socioeconomic environment.

DATES: The National Park Service will accept comments on the Draft EIS from the public for 60 days after the date the Environmental Protection Agency publishes its notice in the Federal Register. The National Park Service will also hold public meetings during the public comment period; the date, time, and location of the meetings will be announced on Project Web site http://parkplanning.nps.gov/lake, as well as via local and regional press media.

ADDRESSES: Respondents may submit comments by one of two methods. You may mail written comments to Lake Mead National Recreation Area, Attn: DCP-DEIS, 601 Nevada Highway, Boulder City, NV 89005. You may also submit comments electronically via the Internet at http://parkplanning.nps.gov/lake. Before including your address, phone number, email address, or other personal identifying information in your comment, you should be aware that your entire comment—including your personal identifying information—may be made publicly available at any time. While you can ask us in your comment to withhold your personal identifying information from public review, we cannot guarantee that we will be able to do so.

FOR FURTHER INFORMATION CONTACT: Mr. Jim Holland, Park Planner, Lake Mead National Recreation Area, 601 Nevada Highway, Boulder City, NV 89005 (702) 293-8986.

SUPPLEMENTARY INFORMATION: The purpose of the development concept plans is to reevaluate the implementation strategies for these two areas that were identified in the 1986 Lake Mead National Recreation Area General Management Plan/Development Concept Plans/Final Environmental Impact Statement and to incorporate the concepts and carrying capacities that were approved in the 2003 Lake Mead National Recreation Area Lake Management Plan/Final Environmental Impact Statement. Each development concept plan provides an integrated plan for development with site specific guidance for the extent, type, and location of facilities and services that is consistent with the management direction and intent established in the general management plan and lake management plan.

The general management plan addressed the need to provide recreational opportunities while preserving and protecting natural and cultural resources. It established land-based management zones and included development concept plans for Cottonwood Cove and Katherine Landing that identified limits on the development, established the number and type of facilities, and addressed flood hazards. The general management plan's vision for both areas was to accommodate increasing use, enhance the visitor experience, and mitigate flood hazards. The lake management plan established water-based management zones and provided further guidance for the long-term protection of park resources while allowing a range of recreational opportunities to support visitor needs. A number of the management actions identified in both approved plans require more site-specific development planning. There are also a number of management issues that have not been adequately addressed or resolved in the previous planning efforts and that require a more detailed examination of development and operational needs.

The primary issues affecting the management of the Cottonwood Cove and Katherine Landing developed areas are as follows:

• Providing flood mitigation

• Enhancing shoreline-based day-use opportunities and facilities to meet a growing demand

• Improving the safety and ease of access, providing better organized and more convenient parking, and providing an appropriate number of parking spaces

• Improving NPS campgrounds to function effectively to meet visitor needs while protecting the cultural landscape

• Providing adequate visitor information and education programs and determining if commercial services and NPS educational and interpretive services be provided in a joint facility enhancing operational facilities to function effectively and efficiently, meeting the needs of both park staff and visitors

• Identifying which concession facilities or services are still necessary and appropriate at these sites for public use and enjoyment of the park

Decision Process: Following due consideration of all comments received, a Final EIS will be prepared. As a delegated EIS, the official responsible for a final decision is the Regional Director, Pacific West Region. Subsequently the official responsible for implementing the approved development concept plans and for monitoring results is the Superintendent, Lake Mead National Recreation Area.

Dated: September 28, 2012.
Martha J. Lee,
Acting Regional Director, Pacific West Region.

[FR Doc. 2013-04538 Filed 2-26-13; 8:45 am]

BILLING CODE 4312-FF-P